NUCLEAR REGULATORY COMMISSION

[NRC-2011-0204]

Proposed Generic Communication; Draft NRC Generic Letter 2011-XX: Seismic Risk Evaluations for Operating Reactors

AGENCY: Nuclear Regulatory Commission.

ACTION: Draft generic letter; comment period extension and correction.

SUMMARY: The U.S. Nuclear Regulatory Commission (NRC) is correcting a notice appearing in the Federal Register on September 1, 2011 (76 FR 54507), that requested public comment on Draft NRC Generic Letter 2011-XX: Seismic Risk Evaluations for Operating Reactors. This action is necessary to correct the Docket ID information for submitting comments and accessing publicly available documents related to the draft generic letter in the ADDRESSES section and the SUPPLEMENTARY INFORMATION section. Due to this error, the NRC is extending the comment period from October 31, 2011, to November 15, 2011.

FOR FURTHER INFORMATION CONTACT: Cindy Bladey, Chief, Rules, Announcements and Directives Branch, Office of Administration, U.S. Nuclear Regulatory Commission, Washington, DC 20555-0001; telephone: 301-492-3667 or e-mail: Cindy.Bladey@nrc.gov.

SUPPLEMENTARY INFORMATION: On page 54507 of Federal Register document 2011-22422, published September 1, 2011 (76 FR 54507), in the second column, under the section titled ADDRESSES, first paragraph, “NRC-2011-0201” is corrected to read “NRC-2011-0204.” Also, on page 54507 of the same document, in the second column, under the section titled ADDRESSES, first bulleted item, “NRC-2011-0201” is corrected to read “NRC-2011-0204.” On page 54508 of the same document, in the first column, under the section titled SUPPLEMENTARY INFORMATION, second bulleted item, “NRC-2011-0201” is corrected to read “NRC-2011-0204.”

Dated at Rockville, Maryland, this 12th day of September, 2011.
For the Nuclear Regulatory Commission.
Cindy Bladey,
Chief, Rules, Announcements and Directives Branch, Division of Administrative Services, Office of Administration.

[FR Doc. 2011-23706 Filed 9-15-11; 8:45 am]

BILLING CODE 7590-01-P